DEPARTMENT OF THE INTERIOR

National Park Service

[NPS-PWR-PWRO-1103-8840; 2051-P580-579]

Final Environmental Impact Statement for Extension of F-Line Streetcar Service to Fort Mason Center, San Francisco, CA

AGENCY: National Park Service, Department of the Interior.

ACTION: Notice of Availability of the Final Environmental Impact Statement for the Extension of F-Line Streetcar Service to Fort Mason Center, San Francisco, California.

SUMMARY: Pursuant to National Environmental Policy Act of 1969, 42 U.S.C. 4332(2)(C), the National Park Service announces availability of the Final Environmental Impact Statement (Final EIS) for the extension of the historic streetcar F-line from Fisherman's Wharf to the Fort Mason Center, in San Francisco, California.

DATES: The National Park Service (NPS) will execute a Record of Decision (ROD) not sooner than 30 days after publication in the Federal Register by the Environmental Protection Agency (EPA) of its notice of filing of the Final EIS.

ADDRESSES: The Final EIS is available for public inspection as follows: at the Office of the Superintendent, Golden Gate National Recreation Area (Bldg. 201 Fort Mason, San Francisco, California), and at local public libraries as noted on the Project Web site http://parkplanning.np.gov/goga. An electronic version may also be accessed at the Project Web site. For further information, please contact Mr. Steve Ortega, Bldg. 201 Fort Mason, San Francisco, CA 94123-0022 (415) 561-2841 or steve_ortega@nps.gov.

SUPPLEMENTARY INFORMATION: The proposed action would extend the historic streetcar F-line from Fisherman's Wharf to the San Francisco Maritime National Historical Park (SF Maritime NHP) and to the Fort Mason Center in the Golden Gate National Recreation Area (GGNRA). The intended effect of the proposed action is to provide park visitors and transit-dependent residents with high-quality rail transit that improves transportation access and mobility between existing streetcar service at Fisherman's Wharf and SF Maritime NHP and the Fort Mason Center in GGNRA, with connection to the regional transit rail services. The Final EIS evaluates potential environmental consequences of implementing the alternatives. Impact topics include the cultural, natural, and socioeconomic environments.

The proposed action is the culmination of a cooperative effort by the National Park Service, the San Francisco Municipal Transportation Agency (SFMTA), and the Federal Transit Administration. Studies from these agencies identified a need for improved regional and local transit connectivity between the identified urban national parks and existing transit infrastructure. Transit improvements between these parks would help accommodate existing and future visitor demand and enhance operational effectiveness. Based on the agency studies, conceptual approaches to address alternative transportation needs were identified and evaluated against the purpose and need of the project, park management objectives, and operability constraints.

Through an intensive public review process, two action alternatives were identified in addition to the No Action Alternative (Alternative 1)—the Preferred Action Alternative has two options for the track turnaround configuration (Alternatives 2A and 2B). Common elements of the Preferred Action Alternatives include the extension of approximately 0.85 mile of new rail track; associated features such as signals, crossings, wires and poles; approximately 8-9 new platforms; new designated stops; retrofitting of the historic State Belt Railroad tunnelFort Mason Tunnel: tunnel (Fort Mason Tunnel). The primary difference between Alternatives 2A and 2B involves the location in which the streetcar would turn around at the terminus of the proposed track extension. Under Alternative 2A, the streetcar would turn around via a loop in the Fort Mason Center parking lot (North Loop). Under Alternative 2B, the streetcar would turn around via a loop in the Great Meadow (South Loop).

The Draft EIS was made available for public review for 60 days (March 18-May 23, 2011); the full text and graphics were also posted on the NPS Planning, Environment and Public Comment Web site. A public open house on the proposed action was held on April 20, 2011, and attended by a total of 81 people, during which the Project team collected oral and written comments. In addition, throughout the review period, NPS received a total of 98 comment letters on the proposed action. The majority of those that commented on the Draft EIS supported the proposed action. The public's primary concerns about the preferred alternative included mitigating the loss of parking, displacement of street artist sales spaces, increased traffic congestion, noise and congestion near the Marina neighborhood, conflicts with other planned projects, and mitigating impacts to National Historic Landmark resources. Many also suggested various design ideas and other measures to help reduce these impacts.

In coordination with other affected agencies, and after considering all oral and written comments, the NPS prepared the Final EIS. The analysis revealed Alternative 1 (No Action) to be the Environmentally Preferred Alternative. Alternative 2 was found to be the superior alternative with Alternative 2A (North Loop) the preferred option for the Turnaround, and thus NPS's Final Preferred Action Alternative.

Decision Process: The NPS will prepare a Record of Decision no sooner than 30 days following EPA's notice in the Federal Register of filing of the Final EIS. As a delegated EIS, the official responsible for approval of the extension of F-Line streetcar service from Fisherman's Wharf to the Fort Mason Center is the Regional Director; subsequently the officials responsible for implementation will the Superintendents of San Francisco Maritime National Historical Park and Golden Gate National Recreation Area.

Dated: December 6, 2012.
Martha J. Lee,
Acting Regional Director, Pacific West Region.

[FR Doc. 2012-3959 Filed 2-17-12; 8:45 am]

BILLING CODE 4312-FN-P